NUCLEAR REGULATORY COMMISSION

10 CFR Part 61

[NRC-2015-0003; NRC-2011-0012]

RIN-3150-AI92

Guidance for Conducting Technical Analyses for Low-Level Radioactive Waste Disposal

AGENCY: Nuclear Regulatory Commission.

ACTION: Draft NUREG; request for comment.

SUMMARY: The U.S. Nuclear Regulatory Commission (NRC) is issuing for public comment a draft NUREG, NUREG-2175, “Guidance for Conducting Technical Analyses for 10 CFR part 61.” The NRC is proposing to amend its regulations that govern low-level radioactive waste (LLRW) disposal facilities to require new and revised site-specific technical analyses, to permit the development of site-specific criteria for LLRW acceptance based on the results of these analyses, and to facilitate implementation and better align the requirements with current health and safety standards. The NRC has prepared draft guidance to address the implementation of the proposed regulations. This notice is announcing the availability of the draft guidance for public comment.

DATES: Submit comments by July 24, 2015. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2015-0003. The proposed amendments to the NRC LLRW regulations are issued in a separate notice, under Docket ID NRC-2011-0012. Address questions about NRC dockets to Carol Gallagher; telephone: 301-287-3422; email: Carol.Gallagher@nrc.gov. For technical questions, contact the individuals listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Priya Yadav, Office of Nuclear Material Safety and Safeguards, telephone: 301-415-6667, email: Priya.Yadav@nrc.gov; or Stephen Dembek, Office of Nuclear Material Safety and Safeguards, telephone: 301-415-2342, email: Stephen.Dembek@nrc.gov; U.S. Nuclear Regulatory Commission, Washington, DC 20555-0001.

SUPPLEMENTARY INFORMATION:

I. Obtaining Information and Submitting Comments

A. Obtaining Information

Please refer to Docket ID NRC-2015-0003 when contacting the NRC about the availability of information for this action. You may obtain publicly-available information related to this action by any of the following methods:

• Federal rulemaking Web site: Go to http://www.regulations.gov and search for Docket ID NRC-2015-0003.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The guidance for conducting technical analyses for 10 CFR part 61, Draft NUREG-2175, is available in ADAMS under Accession No. ML15056A516.

• NRC's PDR: You may examine and purchase copies of public documents at the NRC's PDR, Room O1-F21, One White Flint North, 11555 Rockville Pike, Rockville, Maryland 20852.

B. Submitting Comments

Please include Docket ID NRC-2015-0003 in the subject line of your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The guidance for conducting technical analyses for part 61 of Title 10 of the Code of Federal Regulations (CFR), NUREG-2175, provides guidance on conducting technical analyses (i.e., performance assessment, inadvertent intruder assessment, assessment of the stability of a LLRW disposal site, defense-in-depth analyses, protective assurance period analyses, and performance period analyses) to demonstrate compliance with the performance objectives in the proposed 10 CFR part 61, “Licensing Requirements for Land Disposal of Radioactive Waste.” This guidance should facilitate licensees' implementation of the proposed amendments as well as assist regulatory authorities in reviewing the technical analyses. This guidance applies to all waste streams disposed of at a 10 CFR part 61 LLRW disposal facility, including large quantities of depleted uranium and blended waste.

NUREG-2175 provides detailed guidance in new areas, such as the inadvertent intruder analysis, defense-in-depth analyses, and analyses for the three phases of the analysis timeframe (compliance period, protective assurance period, and performance period). This guidance discusses the use of a graded level of effort needed to risk-inform the analyses for the compliance period (1,000 years), the protective assurance period (from 1,000 years to 10,000 years after disposal site closure), and also covers the performance period analyses that should be performed for analysis of long-lived waste beyond 10,000 years. Additional topics covered in this document include: (1) Demonstration that radiation doses are minimized to the extent reasonably achievable; (2) identification and screening of the features, events, and processes to develop scenarios for technical analyses; (3) use of the waste classification tables or the results of the technical analyses to develop site-specific waste acceptance criteria; and (4) use of performance confirmation to evaluate and verify the accuracy of information used to demonstrate compliance prior to site closure.

III. Proposed Rulemaking

On May 3, 2011, the NRC published preliminary proposed rule language (76 FR 24831), “Part 61: Site Specific Analyses for Demonstrating Compliance with Subpart C Performance Objectives” (ADAMS Accession No. ML111150205). As a result of additional direction from the Commission in staff requirement memoranda (SRM)-COMWDM-11-0002/COMGEA-11-0002, “Revisions to Part 61,” dated January 19, 2012 (ADAMS Accession No. ML120190360), the NRC staff published a second version of the preliminary proposed rule language (77 FR 72997; December 7, 2012), “November 2012 Preliminary Rule Language for Proposed Revisions to Low-Level Waste Disposal Requirements (10 CFR part 61)”

(ADAMS Accession No. ML12311A444). Based on comments received, the NRC published in the Proposed Rules section of this issue of the Federal Register a third version of the proposed rule language. Documents related to the proposed rule, including public comments, are available on the Federal rulemaking Web site at http://www.regulations.gov under Docket ID NRC-2011-0012.

Dated at Rockville, Maryland, this 5th day of February 2015.
For the Nuclear Regulatory Commission.
Andrew Persinko,
Deputy Director, Division of Decommissioning, Uranium Recovery, and Waste Programs, Office of Nuclear Material Safety and Safeguards.

[FR Doc. 2015-06536 Filed 3-25-15; 8:45 am]

BILLING CODE 7590-01-P